DEPARTMENT OF THE TREASURY

Office of Thrift Supervision

Submission for OMB Review; Comment Request—Interagency Guidance on Response Programs for Unauthorized Access to Customer Information and Customer Notice

AGENCY: Office of Thrift Supervision (OTS), Treasury.

ACTION: Notice and request for comment.

SUMMARY: The proposed information collection requirement described below has been submitted to the Office of Management and Budget (OMB) for review and approval, as required by the Paperwork Reduction Act of 1995. OTS is soliciting public comments on the proposal.

DATES: Submit written comments on or before April 12, 2007.

ADDRESSES: Send comments, referring to the collection by title of the proposal or by OMB approval number, to OMB and OTS at these addresses: Office of Information and Regulatory Affairs, Attention: Desk Officer for OTS, U.S. Office of Management and Budget, 725 17th Street, NW., Room 10235, Washington, DC 20503, or by fax to (202) 395-6974; and Information Collection Comments, Chief Counsel's Office, Office of Thrift Supervision, 1700 G Street, NW., Washington, DC 20552, by fax to (202) 906-6518, or by e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: For further information or to obtain a copy of the submission to OMB, please contact Marilyn K. Burton at marilyn.burton@ots.treas.gov, (202) 906-6467, or facsimile number (202) 906-6518, Litigation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Interagency Guidance on Response Programs for Unauthorized Access to Customer Information and Customer Notice.

OMB Number: 1550-0110.

Form Number: N/A.

Description: On March 29, 2005, the Office of the Comptroller of the Currency (OCC), Board of Governors of the Federal Reserve System (Board), Federal Deposit Insurance Corporation (FDIC), and Office of Thrift Supervision (OTS) (collectively, the Agencies) published the Interagency Guidance on Response Programs for Unauthorized Access to Customer Information and Customer Notice (70 FR 15736) (Guidance). The Guidance interprets the requirements of section 501(b) of the Gramm-Leach-Bliley Act (GLBA), 15 U.S.C. 6801, and the Interagency Guidelines Establishing Information Security Standards (Security Guidelines) ¹ to include the development and implementation of a response program to address unauthorized access to or use of customer information that could result in substantial harm or inconvenience to a customer. The Guidance states that every financial institution should develop and implement a response program designed to address incidents of unauthorized access to customer information maintained by the institution or its service provider, and describes the appropriate elements of a financial institution's response program, including customer notification procedures.

¹ 12 CFR part 570, app. B.

OTS is proposing to extend OMB approval of the following information collection. This submission involves no change to the regulation or to the information collection requirements.

Type of Review: Renewal.

Affected Public: Business or other for-profit; individuals.

Number of Respondents: 840.

Estimated Time per Response:

Developing Notices: 24 hours × 840 = 20,160 hours.

Notifying Customers: 29 hours × 113 = 3,277 hours.

Total Estimated Annual Burden = 23,437 hours.

Clearance Officer: Marilyn K. Burton, (202) 906-6467, Office of Thrift Supervision, 1700 G Street, NW., Washington, DC 20552.

OMB Reviewer: Desk Officer for OTS, Fax: (202) 395-6974, U.S. Office of Management and Budget, 725 17th Street, NW., Room 10235, Washington, DC 20503.

Dated: March 7, 2007.
Deborah Dakin,
Senior Deputy Chief Counsel, Regulations and Legislation Division.

[FR Doc. E7-4512 Filed 3-12-07; 8:45 am]

BILLING CODE 6720-01-P